DEPARTMENT OF ENERGY

Federal Energy Regulatory Commission

Combined Notice of Filings #1

Take notice that the Commission received the following exempt wholesale generator filings:

Docket Numbers: EG21-109-000.

Applicants: Shaw Creek Solar, LLC.

Description: Notice of Self Certification of Exempt Wholesale Generator Status of Shaw Creek Solar, LLC.

Filed Date: 3/15/21.

Accession Number: 20210315-5400.

Comments Due: 5 p.m. ET 4/5/21.

Take notice that the Commission received the following electric rate filings:

Docket Numbers: ER15-704-022.

Applicants: Pacific Gas and Electric Company.

Description: Compliance filing: CCSF Compliance filing to update Intervening Facilities (1 of 2) to be effective 7/23/2015.

Filed Date: 3/15/21.

Accession Number: 20210315-5416.

Comments Due: 5 p.m. ET 4/5/21.

Docket Numbers: ER15-704-023.

Applicants: Pacific Gas and Electric Company.

Description: Compliance filing: CCSF Compliance filing to update Intervening Facilities (2 of 2) to be effective 7/23/2015.

Filed Date: 3/16/21.

Accession Number: 20210316-5038.

Comments Due: 5 p.m. ET 4/6/21.

Docket Numbers: ER19-2398-006; ER20-1879-003; ER20-2019-002.

Applicants: Gray County Wind, LLC, Oliver Wind I, LLC, Hancock County Wind, LLC.

Description: Supplement to January 11, 2021 Notice of Change in Status of Gray County Wind, LLC, et al.

Filed Date: 3/12/21.

Accession Number: 20210312-5363.

Comments Due: 5 p.m. ET 4/2/21.

Docket Numbers: ER21-1407-000.

Applicants: Midcontinent Independent System Operator, Inc., American Transmission Company LLC.

Description: § 205(d) Rate Filing: 2021-03-15_SA 2799 ATC-City of New London 1st Rev CFA to be effective 5/15/2021.

Filed Date: 3/15/21.

Accession Number: 20210315-5210.

Comments Due: 5 p.m. ET 4/5/21.

Docket Numbers: ER21-1413-000.

Applicants: New York State Electric & Gas Corporation, New York Independent System Operator, Inc.

Description: § 205(d) Rate Filing: Joint TPIA among the NYISO, NYSEG and Transco Segment B SA No. 2604 CEII partly to be effective 3/1/2021.

Filed Date: 3/15/21.

Accession Number: 20210315-5242.

Comments Due: 5 p.m. ET 4/5/21.

Docket Numbers: ER21-1415-000.

Applicants: Midcontinent Independent System Operator, Inc., American Transmission Company LLC.

Description: § 205(d) Rate Filing: 2021-03-15_SA 3642 ATC-Onion River Solar E&P (J1153) to be effective 4/1/2021.

Filed Date: 3/15/21.

Accession Number: 20210315-5266.

Comments Due: 5 p.m. ET 4/5/21.

Docket Numbers: ER21-1442-000.

Applicants: Southwest Power Pool, Inc.

Description: § 205(d) Rate Filing: 3211R2 North Iowa Municipal Electric Cooperative Association NITSA and NOA to be effective 3/1/2021.

Filed Date: 3/16/21.

Accession Number: 20210316-5008.

Comments Due: 5 p.m. ET 4/6/21.

Docket Numbers: ER21-1445-000.

Applicants: Southwest Power Pool, Inc.

Description: § 205(d) Rate Filing: 2900R15 KMEA NITSA NOA to be effective 3/1/2021.

Filed Date: 3/16/21.

Accession Number: 20210316-5014.

Comments Due: 5 p.m. ET 4/6/21.

Docket Numbers: ER21-1447-000.

Applicants: Rochester Gas and Electric Corporation.

Description: § 205(d) Rate Filing: Amendment to RGE-RED, RGE-RED Borderline Service Agreement to be effective 3/8/2021.

Filed Date: 3/16/21.

Accession Number: 20210316-5096.

Comments Due: 5 p.m. ET 4/6/21.

Docket Numbers: ER21-1448-000.

Applicants: PJM Interconnection, L.L.C.

Description: § 205(d) Rate Filing: Original ISA, SA No. 5993; Queue No. NQ-166 to be effective 2/22/2021.

Filed Date: 3/16/21.

Accession Number: 20210316-5100.

Comments Due: 5 p.m. ET 4/6/21.

Docket Numbers: ER21-1449-000.

Applicants: Tri-State Generation and Transmission Association, Inc.

Description: § 205(d) Rate Filing: Rate Schedule FERC No. 323, Board Policy No. 125 to be effective 3/17/2021.

Filed Date: 3/16/21.

Accession Number: 20210316-5125.

Comments Due: 5 p.m. ET 4/6/21.

Docket Numbers: ER21-1450-000.

Applicants: Duke Energy Ohio, Inc., Duke Energy Kentucky, Inc., PJM Interconnection, L.L.C.

Description: § 205(d) Rate Filing: DEOK submits Revisions to PJM Tariff re: Materials & Supplies Inventory to be effective 5/16/2021.

Filed Date: 3/16/21.

Accession Number: 20210316-5124.

Comments Due: 5 p.m. ET 4/6/21.

Take notice that the Commission received the following PURPA 210(m)(3) filings:

Docket Numbers: QM21-11-000.

Applicants: Southern Maryland Electric Cooperative, Inc.

Description: Application to Terminate the Obligation to Purchase Power From Certain Qualifying Facilities of Southern Maryland Electric Cooperative, Inc.

Filed Date: 3/12/21.

Accession Number: 20210312-5365.

Comments Due: 5 p.m. ET 4/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2021.
Nathaniel J. Davis, Sr.,
Deputy Secretary.

[FR Doc. 2021-05892 Filed 3-19-21; 8:45 am]

BILLING CODE 6717-01-P